DEPARTMENT OF TRANSPORTATION

Surface Transportation Board

[STB Finance Docket No. 34637]

Denver Terminal Railroad Company, d/b/a Denver Rock Island Railroad—Lease and Operation Exemption—Rail Line of Union Pacific Railroad Company

Denver Terminal Railroad Company, d/b/a Denver Rock Island Railroad (DRIR), a Class III rail carrier, has filed a verified notice of exemption under 49 CFR 1150.41 to lease from Union Pacific Railroad Company (UP) and operate a line of railroad, known as the Stock Yard Lead. The line of railroad consists of Track 12 extending from a point of connection with a UP main line north of East 58th Avenue in unincorporated Adams County, CO, to a point of connection with existing DRIR trackage at or near Race Court in the City of Denver, Denver County, CO, a distance of 5,750 feet, or 1.09 miles, plus the following auxiliary tracks: Track 12A (450 feet); Track 12B (750 feet); Track 12C (1,767 feet); and Track 12D (1,845 feet), for a total distance of 10,562 feet, or 2 miles.

DRIR certifies that its projected revenues as a result of this transaction will not result in the creation of a Class II or Class I rail carrier. The transaction was scheduled to be consummated no sooner than December 24, 2004, the effective date of the exemption (7 days after the exemption was filed).

If the verified notice contains false or misleading information, the exemption is void ab initio. Petitions to revoke the exemption under 49 U.S.C. 10502(d) may be filed at any time. The filing of a petition to revoke will not automatically stay the transaction.

An original and 10 copies of all pleadings, referring to STB Finance Docket No. 34637, must be filed with the Surface Transportation Board, 1925 K Street, NW., Washington, DC 20423-0001. In addition, a copy of each pleading must be served on: Thomas F. McFarland, Thomas F. McFarland, P.C., 208 South LaSalle Street, Suite 1890, Chicago, IL 60604-1112.

Board decisions and notices are available on our Web site at http://www.stb.dot.gov.

Decided: January 4, 2005.
By the Board, David M. Konschnik, Director, Office of Proceedings.
Vernon A. Williams,
Secretary.

[FR Doc. 05-599 Filed 1-11-05; 8:45 am]

BILLING CODE 4915-01-P